COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that will be furnished by nonprofit agencies employing persons who are blind or have other severe disabilities.

DATES: Effective Date: 1/20/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 11/8/2013 (78 FR 67129-67130) and 11/15/2013 (78 FR 68823-68824), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

Tongs, Food Serving

NSN: 7330-00-616-0997—12″

NSN: 7330-00-616-1000—6″

NSN: 7330-00-616-0998—9″

NPA: UNKNOWN

Contracting Activity: GENERAL SERVICES ADMINISTRATION, FORT WORTH, TX

Services

Service Type/Location: Switchboard Operation Service, Department of Justice, FBI Academy, Quantico, VA

NPA: Rappahannock Goodwill Industries, Inc., Fredericksburg, VA

Contracting Activity: DEPT OF JUSTICE, FEDERAL BUREAU OF INVESTIGATION, WASHINGTON, DC

Service Type/Location: Vehicle Detailing Service, Fleet Management Center, Medford, OR

NPA: Living Opportunities, Inc., Medford, OR

Contracting Activity: GENERAL SERVICES ADMINISTRATION, FPDS AGENCY COORDINATOR, WASHINGTON, DC

Service Type/Locations: Janitorial/Custodial Service, U.S. Federal Building and Courthouse, 205 4th Street, Coeur d'Alene, ID, U.S. Federal Building, St. Maries, ID

NPA: TESH, Inc., Coeur d'Alene, ID

Contracting Activity: GENERAL SERVICES ADMINISTRATION, FPDS AGENCY COORDINATOR, WASHINGTON, DC

Service Types/Location:

Custodial Service, Air National Guard Base—Reserve Buildings: BLDGS 300, 304, 315, 320, 310, 360, 365, 355, 373, 375, Portland, OR

Food Service Attendant Service, Portland Air National Guard Base, Portland, OR

NPA: The Port City Development Center, Portland, OR

Contracting Activity: DEPT OF THE AIR FORCE, FA7014 AFDW PK, ANDREWS AFB, MD

Barry S. Lineback,
Director, Business Operations.

[FR Doc. 2013-30300 Filed 12-19-13; 8:45 am]

BILLING CODE 6353-01-P